DEPARTMENT OF JUSTICE

[Docket No. ODAG 156]

Notice of Federal Advisory Committee Meeting

AGENCY: Department of Justice.

ACTION: Notice of Federal Advisory Committee Meeting. Request for Public Comment.

SUMMARY: The National Commission on Forensic Science will hold meeting [insert number] at the time and location listed below.

DATES: (1) Public Hearing.—The meeting will be held on December 7, 2015 from 12:00 p.m. to 5:00 p.m. and December 8, 2015 from 9:00 a.m. to 5:00 p.m.

(2) Written Public Comment.—Written public comment regarding National Commission on Forensic Science meeting materials can be submitted through www.regulations.gov starting on November [23], 2015. Any comments should be posted to regulations.gov no later than December [22], 2015.

Location: House of Sweden: 2900 K Street NW., Washington, DC 20007.

FOR FURTHER INFORMATION CONTACT: Andrew J. Bruck, Senior Counsel to the Deputy Attorney General and Designated Federal Official, 950 Pennsylvania Avenue NW., Washington, DC 20530, by email at Andrew.J.Bruck@usdoj.gov by phone at (202) 305-3481.

SUPPLEMENTARY INFORMATION:

Agenda: December 7, 2015, 12 p.m. to 5 p.m. and December 8, 2015, 9 a.m. to 5 p.m.—Open Meeting: The public will have the opportunity to make oral comments beginning at 5 p.m. each day.

Meeting Accessibility: Pursuant to 41 CFR 102-3.140 through 102-3.165 and the availability of space, the meeting scheduled for December 7, 2015, 12 p.m. to 5 p.m. and December 8, 2015, 9 a.m. to 5 p.m. at the House of Sweden is open to the public and webcast. Seating is limited and pre-registration is strongly encouraged. Media representatives are also encouraged to register in advance.

Written Comments: Pursuant to section 10(a)(3) of the FACA and 41 CFR 102-3.105(j) and 102-3.140, the public or interested organizations may submit written comments to the Commission in response to the stated agenda and meeting material. Meeting material, including work products will be made available on the Commission's Web site: http://www.justice.gov/ncfs.

Oral Comments: In addition to written statements, members of the public may present oral comments at 5 p.m. on December 7 and 8, 2015. Those individuals interested in making oral comments should indicate their intent through the on-line registration form and time will be allocated on a first-come, first-served basis. Time allotted for an individual's comment period will be limited to no more than 3 minutes. If the number of registrants requesting to speak is greater than can be reasonably accommodated during the scheduled public comment periods, written comments can be submitted through www.regulations.gov in lieu of oral comments.

Registration: Individuals and entities who wish to attend the public meeting are encouraged to register for the meeting. All persons must register on-line by clicking the registration link found at: http://www.justice.gov/ncfs/meetings#s8. Online registration for the meeting must be completed on or before 5:00 p.m. (EST) November 30, 2015.

Additional Information: The Department of Justice welcomes the attendance of the public at its advisory committee meetings and will make every effort to accommodate persons with physical disabilities or special needs. If you require special accommodations, please indicate your requirements on the online registration form.

Dated: November 3, 2015.
Andrew J. Bruck,
Designated Federal Official, National Commission on Forensic Science.

[FR Doc. 2015-28599 Filed 11-9-15; 8:45 am]

BILLING CODE 4410-18-P